FEDERAL COMMUNICATIONS COMMISSION

[CC Docket 98-67; DA 03-1728]

Notice of Telecommunications Relay Service (TRS) To Remind States and Interstate TRS Providers That the Consumer Complaint Log Summaries Are Due on Tuesday, July 1, 2003

AGENCY: Federal Communications Commission.

ACTION: Notice.

SUMMARY: In this document, the Commission notifies the public, state Telecommunications Relay Service (TRS) programs, and interstate TRS providers that the annual consumer complaint log summaries are due on Tuesday, July 1, 2003. Complaint log summaries should include information pertaining to complaints received between June 1, 2002 and May 31, 2003. Complaint log summaries shall include the number of complaints received that allege a violation of federal TRS minimum standards, the date of the complaint, the nature of the complaint, the date of its resolution, and an explanation of the resolution. The Commission requires that this information be included in the complaint log summary for the purpose of alerting the Commission of possible service quality problems.

DATES: State TRS programs and interstate TRS providers must file the annual consumer complaint log summary no later than July 1, 2003.

ADDRESSES: Federal Communications Commission, 445 12th Street, SW., Washington, DC 20554.

FOR FURTHER INFORMATION CONTACT: Erica Myers, (202) 418-2429 (voice), (202) 418-0464 (TTY), or e-mail emyers@fcc.gov.

SUPPLEMENTARY INFORMATION: This is a summary of the Commission's Public Notice, CC Docket 98-67, released May 20, 2003. This document notifies state TRS programs and interstate TRS providers that the annual complaint log summary for complaints received between June 1, 2002, and May 31, 2003, is due on Tuesday, July 1, 2003. States and interstate TRS providers who choose to submit by paper must submit an original and four copies of each filing on or before Tuesday, July 1, 2003. To expedite the processing of complaint log summaries, states and interstate TRS providers are encouraged to submit an additional copy to Attn: Erica Myers, Federal Communications Commission, Consumer & Governmental Affairs Bureau, 445 12th Street, SW., Room 6A-432, Washington, DC 20554 or by email at emyers@fcc.gov. States and interstate TRS providers should also submit electronic disk copies of their complaint log summaries on a standard 3.5 inch diskette formatted in an IBM compatible format using Word 97 or compatible software. The diskette should be submitted in “read-only” mode and must be clearly labeled with the state or interstate TRS provider name, the filing date and captioned “Complaint Log Summary.”

Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554.

The filings and comments will be available for public inspection and copying during regular business hours at the FCC Reference Information Center, Portals II, 445 12th Street, SW., Room CY-A257, Washington, DC 20554. They may also be purchased from the Commission's duplicating contractor, Qualex International, Portals II, 445 12th Street, SW., Room CY-B402, Washington, DC 20554, telephone (202) 863-2893, facsimile (202) 863-2898, or via e-mail qualexint@aol.com. Filings and comments may also be viewed on the Consumer & Governmental Affairs Bureau, Disability Rights Office homepage at http://www.fcc.gov/cgb/dro.

To request materials in accessible formats for people with disabilities (braille, large print, electronic files, audio format), send an e-mail to fcc504@fcc.gov or call the Consumer & Governmental Affairs Bureau at 202-418-7365 (tty). This Public Notice can also be downloaded in Text and ASCII formats at: http://www.fcc.gov/cgb/dro.

Federal Communications Commission.
Margaret M. Egler,
Deputy Chief, Consumer & Governmental Affairs Bureau.

[FR Doc. 03-13285 Filed 5-28-03; 8:45 am]

BILLING CODE 6712-01-P